DEPARTMENT OF HEALTH AND HUMAN SERVICES

Administration for Children and Families

Submission for OMB Review; Comment Request

Title: Pathways for Advancing Careers and Education (PACE): Third Follow-Up Data Collection.

OMB No.: 0970-0397.

Description: The Administration for Children and Families (ACF), U.S. Department of Health and Human Services (HHS), is proposing a data collection activity as part of the Pathways for Advancing Careers (PACE) evaluation. PACE is an evaluation of nine promising career pathways strategies to promote education, employment, and self-sufficiency. The major goal of PACE is to increase the empirical knowledge about the effectiveness of programs for low-income individuals and families to achieve educational credentials, attain employment, and advance to positions that enable self-sufficiency.

PACE is one project within the broader portfolio of research that the ACF Office of Planning, Research and Evaluation (OPRE) is utilizing to assess the success of career pathways programs and models. In addition to PACE, this strategy includes a multi-pronged research and evaluation approach for the Health Profession Opportunity Grants (HPOG) Program to better understand and assess the activities conducted and their results. In order to maximize learning across this portfolio, survey development for the HPOG and PACE baseline and follow up surveys has been coordinated, and the majority of the data elements collected in these surveys are similar. (See OMB Control #0970-0394 for HPOG data collection.)

Three data collection efforts have been approved for PACE: One for baseline data collection (approved November 2011); a second for data collection activities to document program implementation, data collection activities for an initial follow-up survey of participants administered approximately 15 months after random assignment, and data collection through in-depth interviews for a small sample of study participants (approved August 2013); and a third for a second follow-up survey of participants administered 36 months after random assignment (approved December 2014).

This Federal Register Notice provides the opportunity to comment on a proposed new information collection activity for PACE—a third follow-up survey for PACE participants approximately 72 months after program enrollment. The purpose of the survey is to follow-up with study participants to document their education and training experiences; employment experiences including their advancement in their career; economic well-being; student debt and repayment status; and parenting practices and child outcomes for participants with children.

Previously approved collection activities under 0970-0397 will continue under this new request, specifically the 36-Month Follow-Up Survey and Follow-Up Survey Contact Information Update Letters.

Respondents: Individuals enrolled in the PACE study at programs selected for long-term follow-up.

Annual Burden Estimates—New Information Collection [This information request is for a three-year period.]

Note: The burden estimate increased from the 60-day notice due to an expected increase in sample size.

Instrument | Total number of respondents | Annual number of respondents | Number of responses per respondent | Average burden hours per response | Annual burden hours
72-Month Follow-Up Survey | 4,400 | 1,467 | 1 | 0.75 | 1,100

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-12489 Filed 6-15-17; 8:45 am]

BILLING CODE 4184-09-P